DEPARTMENT OF THE INTERIOR

National Park Service

Notice of Availability of The Record of Decision for the Final Supplemental Environmental Impact Statement for The Old Agency Area (Project 3P13) of the Natchez Trace Parkway

AGENCY: National Park Service, Interior.

ACTION: Notice of availability.

SUMMARY: The Department of the Interior, National Park Service, announces the availability of a signed Record of Decision (March 23, 2001) on the Final Supplemental Environmental Impact Statement for the Old Agency Area (Project 3P13) of the Natchez Trace Parkway.

The Natchez Trace Parkway was established in 1938 to commemorate the Old Natchez Trace, a primitive network of trails that stretched approximately 716 kilometers (444 mi.) from Natchez, Mississippi, to Nashville, Tennessee. Today, two portions of the parkway motor road comprising about 32 kilometers (20 mi.) of its total length remain unfinished in Mississippi. The 1.8 kilometer (1.1 mi.) unfinished segment of the parkway known as 3P13 is within the city of Ridgeland and, is the focus of the Final Supplemental Environmental Impact Statement (FSEIS) for the Old Agency Road Area and the Record of Decision.

In 1998, public workshops produced 16 conceptual alternatives for construction of the parkway motor road and local public roads within the project area. Following additional public review and NPS evaluation of the conceptual alternatives, five concepts were determined to be the most viable and consistent with the proposed project's purpose. These five concepts were further refined and were analyzed in the Draft and Final Supplemental Environmental Impact Statement for the Old Agency Road Area as Alternatives 1, 2, 3, 4, and 5. Alternative 1 is the alternative that was originally proposed in the 1978 Final Environmental Impact Statement for Natchez Trace Parkway; it is the no-action alternative and served as a baseline for comparing the other alternatives.

On August 3, 1998, the National Park Service published in the Federal Register a notice of intent to prepare a Draft Supplemental Environmental Impact Statement for the Old Agency area (Project 3P13) of the Natchez Trace Parkway.

The National Park Service will implement the Revised Proposed Action as described in the Final Supplemental Environmental Impact Statement for the Old Agency Road Area (Project 3P13) of the Natchez Trace Parkway which was made available to the public in February of 2001.

The Selected Action (Revised Proposed Action) was developed after public review of the Draft Supplemental Environmental Impact Statement. Under the Selected Action, the Natchez Trace Parkway motor road will cross the Old Natchez Trace (Old Agency Road) approximately at-grade and closely follow the existing topography through the NPS right-of-way connecting existing parkway to the east and to the west of the project area. To provide local east-west vehicular circulation and traffic capacity, Old Agency Road Relocated will be constructed south of the parkway motor road from near Whippoorwill Lane to Highland Colony Parkway. To further enhance local north-south traffic circulation through the project area, traffic will crossover the parkway via a bridge which will link Old Agency Road and Old Agency Road Relocated. The new crossover road between Old Agency Road and Old Agency Road Relocated will begin approximately across from St. Andrew's school ballfield parking lot. Access to the Choctaw Agency site will be provided directly from the parkway motor road, and a parking area for visitors will be developed. Old Agency Road from near Whippoorwill Lane to Richardson Road will be closed to vehicular traffic and restored to Old Natchez Trace appearances (the asphalt road surface will be removed, the surface will be graded to drain, planted with turf grasses, and kept mowed); vehicular traffic will be rerouted to Old Agency Road Relocated.

Access to Interstate 55 to the east of the project area will be through the remaining existing Old Agency Road as well as along Old Agency Road Relocated to Highland Colony Parkway. In addition, short portions of Brame Road, and a portion of the northern entrance to the Dinsmor subdivision will be revegetated, and a portion of the Greenwood Plantation driveway will also be closed within the NPS right-of-way and restored to its appearance of historical significance. Access to Brame Road, Dinsmor subdivision and the Greenwood Plantation will be via the new Old Agency Road Relocated. A deed-reserved driveway will be provided from Old Agency Road Relocated to a tract of land south of the parkway and just east of Dinsmor subdivision. Access to the Canterbury and Windrush subdivisions will continue to be accessed via Old Agency Road. Old Agency Road Relocated will provide access and circulation for local through-traffic, and a new intersection will be constructed at Highland Colony Parkway.

Natural resource impacts (such as vegetation, soils, wildlife) for the Selected Action and each of the five alternatives considered are very similar because the parkway motor road would follow nearly the same alignment through the NPS right-of-way in each alternative. In general, natural resource impacts are considered negligible under the Selected Action and all alternatives due to the already highly fragmented landscape and preponderance of locally abundant and edge-adapted plant and animal species occupying the project area. No federally or state threatened or endangered species or their habitats are impacted under the Selected Action. The Selected Action would negatively impact 0.62 ha (1.53 ac) of Palustrine wetlands. Negative wetland impacts between the Selected Action and the alternatives would vary by just 0.2 ha (0.5 ac). As described in the wetland Statement of Findings (reviewed and approved by the Southeast Regional Director, National Park Service), wetland loss will be mitigated at a 2:1 ratio. Implementation of the Selected Action will not result in impairment from indirect, direct, or cumulative impacts and will not violate the NPS Organic Act.

FOR FURTHER INFORMATION CONTACT: For a complete copy of the Record of Decision and Statement of Findings, contact the Superintendent of the Natchez Trace Parkway at (662) 680-4025 or at the following address: Wendell A. Simpson, Superintendent, 2680 Natchez Trace Parkway, Tupelo, Mississippi 38804.

Dated: June 21, 2001.
Editorial Note: This document was received at the Office of the Federal Register on January 17, 2002.
Wally Hibbard,
Regional Director, Southeast Region.

[FR Doc. 02-1694 Filed 1-18-02; 11:21 am]

BILLING CODE 4310-70-M